DEPARTMENT OF LABOR

Employment and Training Administration

[TA-W-61,637]

Vytech Industries, Inc., Elkhart, IN; Notice of Determinations Regarding Eligibility To Apply for Worker Adjustment Assistance and Alternative Trade Adjustment Assistance; Correction

ACTION: Notice; correction.

SUMMARY: The Department of Labor, Employment and Training Administration published a document in the Federal Register on July 9, 2007, titled Notice of Determinations Regarding Eligibility to Apply for Worker Adjustment Assistance and Alternative Trade Adjustment Assistance. The Department is issuing a restructured paragraph for clarification purposes.

Correction

This is to correct the “text” caption in the Federal Register of July 9, 2007, in FR Doc. E7-13173, on page 37265, in the third column, under the heading Negative Determinations for Alternative Trade Adjustment Assistance, to read:

The Department has determined that criterion (1) of Section 246 has not been met. The firm does not have a significant number of workers 50 years of age or older.

Signed in Washington DC this 11th day of July 2007.
Ralph Dibattista,
Director, Division of Trade Adjustment Assistance.

[FR Doc. E7-13875 Filed 7-17-07; 8:45 am]

BILLING CODE 4510-FN-P